DEPARTMENT OF ENERGY

Federal Energy Regulatory Commission

[Docket No. RP00-408-002]

Ozark Gas Transmission, L.L.C.; Notice of Compliance Filing

March 22, 2002.

Take notice that on March 18, 2002, Ozark Gas Transmission, L.L.C. (Ozark) tendered for filing as part of its FERC Gas Tariff, Original Volume No. 1, the revised tariff sheets listed in Appendix A attached to the filing, to be effective March 1, 2002.

Ozark states that the purpose of its filing is to comply with the Commission's order issued March 1, 2002, in Docket No. RP00-408-001 regarding Ozark's compliance with Order No. 637 (Ozark Gas Transmission, 98 FERC ¶ 61,230 (2001)). In that order, the Commission directed Ozark to file certain tariff revisions regarding receipt and delivery point flexibility and discount retention to comply with the requirements of Order No. 637.

Ozark states that it is also filing revisions to its tariff required to reconcile changes conditionally accepted by the Commission's order in this proceeding with changes to Ozark's tariff accepted by the Commission's February 28, 2002 Letter Order in Docket Nos. RP02-155-000 and CP01-407-001.

Ozark further states that it has served copies of this filing upon the company's jurisdictional customers and interested state commissions.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-7457 Filed 3-27-02; 8:45 am]

BILLING CODE 6717-01-P